DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 12, 2004.

Interested persons are invited to submit written comments regarding the subject matter of the investigations to the Director, Division of Trade Adjustment Assistance, at the address shown below, not later than January 12, 2004.

The petitions filed in this case are available for inspection at the Office of the Director, Division of Trade Adjustment Assistance, Employment and Training Administration, U.S. Department of Labor, Room C-5311, 200 Constitution Avenue NW., Washington, DC 20210.

Signed at Washington, DC this 19th day of December 2003.
Timothy Sullivan,
Director, Division of Trade Adjustment Assistance.

Appendix
[Petitions Instituted Between 12/08/2003 and 12/12/2003]
TA-W | Subject firm (petitioners) | Location | Date of institution | Date of petition
53,729 | Adhesive Technologies, Inc. (Comp.) | Hampton, NH | 12/08/2003 | 12/08/2003
53,730 | McData Corp. (State) | Broomfield, CO | 12/08/2003 | 12/08/2003
53,731 | Industrial CAD Services, Inc. (Comp.) | Kannapolis, NC | 12/08/2003 | 12/08/2003
53,732 | ISM Fastening Systems (Wkrs.) | Herrin, IL | 12/08/2003 | 12/08/2003
53,733 | Coleman Company (The) (Comp.) | Lake City, SC | 12/08/2003 | 12/08/2003
53,734 | Arvin Meritor (Comp.) | Franklin, IN | 12/08/2003 | 12/08/2003
53,735 | Phillips Plastics Corporation (Wkrs.) | Eau Claire, WI | 12/08/2003 | 12/08/2003
53,736 | King Products (Comp.) | Los Angeles, CA | 12/08/2003 | 12/08/2003
53,737 | Tibbetts Industries, Inc. (Comp.) | Camden, ME | 12/08/2003 | 12/08/2003
53,738 | Aaden Aaberg (Comp.) | Anchorage, AK | 12/08/2003 | 12/08/2003
53,739 | Kentucky Derby Hosiery (Wkrs.) | Mt. Airy, NC | 12/08/2003 | 12/08/2003
53,740 | Unisys Corporation (Wkrs.) | Charlootte, NC | 12/08/2003 | 12/08/2003
53,741 | Cone Mills Corp. (Comp.) | Salisbury, NC | 12/09/2003 | 11/18/2003
53,742 | Delphi Automotive Systems (IUE) | Moraine, OH | 12/09/2003 | 12/04/2003
53,743 | Plastics Engineering Co. (Comp.) | Sheboygan, WI | 12/09/2003 | 12/03/2003
53,744 | Lands' End, Inc. (Comp.) | Elkader, IA | 12/09/2003 | 11/25/2003
53,745 | Phillips Plastics Corp. (Wkrs) | Eau Claire, WI | 12/09/2003 | 12/04/2003
53,746 | All Service Plastic Molding, Inc. (Comp.) | Clay City, KY | 12/09/2003 | 11/12/2003
53,747 | Kmart Corporation (Wkrs) | Clinton, NC | 12/09/2003 | 11/15/2003
53,748 | Motorola (Wkrs) | Rockford, IL | 12/09/2003 | 12/01/2003
53,749 | U.S. Tsubaki, Inc. (Comp.) | Bennington, VT | 12/09/2003 | 12/02/2003
53,750 | Allflex USA, Inc. (Wkrs) | Dallas, TX | 12/09/2003 | 11/14/2003
53,751 | United States Postal Service (Wkrs) | Cohoes, NY | 12/09/2003 | 11/23/2003
53,752 | Tuscaroria Yarns, Inc. (Comp.) | Mt. Pleasant, NC | 12/09/2003 | 12/08/2003
53,753 | Citation Corp. (AFLCIO) | Cambden, TN | 12/09/2003 | 12/01/2003
53,754 | Douglas/Quikut (Wkrs) | Walnut Ridge, AR | 12/09/2003 | 11/05/2003
53,755 | Pillowtex Corporation (Wkrs) | New York, NY | 12/10/2003 | 11/21/2003
53,756 | Viking Pump (IA) | Cedar Falls, IA | 12/10/2003 | 12/05/2003
53,757 | Authentic Fitness Corp. (Wkrs) | Los Angeles, CA | 12/10/2003 | 12/09/2003
53,758 | Standard Motor Company (Wkrs) | Argos, IN | 12/10/2003 | 12/08/2003
53,759 | Tellabs (Wkrs) | Bolingbrook, IL | 12/10/2003 | 12/09/2003
53,760 | Parker Hannifin Corp. (Wkrs) | Tempe, AZ | 12/10/2003 | 12/08/2003
53,761 | Amhil Enterprises, Inc. (Wkrs) | Dickson, TN | 12/10/2003 | 12/08/2003
53,762 | Good Company/Good Tables (Wkrs) | Carson, CA | 12/10/2003 | 12/08/2003
53,763 | Chipsco, Inc. (Wkrs) | Meadville, PA | 12/10/2003 | 11/18/2003
53,764 | Traction Motor Transit, Inc. (Wkrs) | W. Mifflin, PA | 12/10/2003 | 12/08/2003
53,765 | Caraustar (Wkrs) | Ashland, OH | 12/10/2003 | 12/05/2003
53,766 | Network Elements, Inc. (OR) | Beaverton, OR | 12/11/2003 | 12/09/2003
53,767 | Vermilion Rubber Technology (IBT) | Danville, IL | 12/11/2003 | 12/01/2003
53,768 | Kurz-Hastings, Inc. (IBT) | Philadelphia, PA | 12/11/2003 | 12/09/2003
53,769 | Textron Fastening Systems (Comp.) | Greensburg, IN | 12/11/2003 | 12/09/2003
53,770 | L and Z Tool and Engineering (NJ) | Watchung, NJ | 12/11/2003 | 12/09/2003
53,771 | Interlink Tech. dba Homaco (Comp.) | Chicago, Il | 12/11/2003 | 12/09/2003
53,772 | Werner Company (Comp.) | Carrollton, KY | 12/11/2003 | 12/09/2003
53,773 | Ademco (Comp.) | Syosset, NY | 12/11/2003 | 12/08/2003
53,774 | Aneco Trousers Corp. (Comp.) | Hanover, PA | 12/11/2003 | 12/09/2003
53,775 | Rexnord Corporation (IAMAW) | Warren, PA | 12/11/2003 | 12/10/2003
53,776 | Valeo Engine Cooling, Inc. (Wkrs) | Greensburg, IN | 12/11/2003 | 12/04/2003
53,777 | Thermo Electron, Materials and Minerals (Comp.) | San Diego, CA | 12/11/2003 | 12/08/2003
53,778 | Geneva Rubber Co. (USWA) | Geneva, OH | 12/11/2003 | 12/09/2003
53,779 | National Mills, Inc. (Comp.) | Pittsburg, KS | 12/11/2003 | 12/08/2003
53,780 | Teva Pharmaceuticals USA (NJ) | Elmwood Pk., NJ | 12/11/2003 | 12/10/2003
53,781 | Bes-Tex Fabrics, Inc. (Comp.) | New York City, NY | 12/11/2003 | 12/01/2003
53,782 | Bombardier Motor Corp. of America (Wkrs) | El Paso, TX | 12/11/2003 | 12/09/2003
53,783 | Geotrac (Wkrs) | Norwalk, OH | 12/11/2003 | 12/02/2003
53,784 | William Carter Co. (Wkrs) | Griffin, GA | 12/11/2003 | 11/28/2003
53,785 | Berger Company (Wkrs) | Atchison, KS | 12/11/2003 | 12/04/2003
53,786 | Caratron Industries, Inc., (Wkrs) | Warren, MI | 12/11/2003 | 12/02/2003
53,787 | ALHU International, Inc. (Comp.) | El Paso, TX | 12/11/2003 | 12/01/2003
53,788 | Ohio Valley Alloy Services (Wkrs) | Marietta, OH | 12/11/2003 | 11/14/2003
53,789 | Millanwood, Inc. | Barnesville, GA | 12/11/2003 | 12/09/2003
53,790 | Snap-Tite (Wkrs) | Erie, PA | 12/12/2003 | 12/04/2003
53,791 | TMH/Vanguard (AFLCIO) | Portage, IN | 12/12/2003 | 12/11/2003
53,792 | Menasha Forest Products Corp. (OR) | North Bend, OR | 12/12/2003 | 12/09/2003
53,793 | Keeler Brass (NJ) | Grand Rapids, MI | 12/12/2003 | 12/02/2003
53,794 | Weyerhaeuser (WA) | Cosmopolis, WA | 12/12/2003 | 12/01/2003
53,795 | Omniglow Corporation (Comp.) | W. Springfield, MA | 12/12/2003 | 12/11/2003

Appendix
[Petitions Instituted Between 12/01/2003 and 12/05/2003]
TA-W | Subject firm (petitioners) | Location | Date of institution | Date of petition
53,668 | Alice Mfg. Co., Inc. (Comp) | Easley, SC | 12/01/2003 | 11/25/2003
53,669 | Interconnect Technologies (Wkrs) | Springfield, MO | 12/01/2003 | 11/26/2003
53,670A | Versailles, Ltd. (Comp) | Brooklyn, NY | 12/01/2003 | 11/18/2003
53,670 | Versailles Ltd. (Comp) | New York, NY | 12/01/2003 | 11/18/2003
53,671A | Lasting Impressions, Inc. (Comp) | Brooklyn, NY | 12/01/2003 | 11/18/2003
53,671 | Lasting Impressions, Inc. (Comp) | New York, NY | 12/01/2003 | 11/18/2003
53,672 | Bombardier Learjet (IAM) | Wichita, KS | 12/01/2003 | 11/24/2003
53,673 | S and S Distribution (Wkrs) | Roebuck, SC | 12/01/2003 | 11/20/2003
53,674 | American Express Travel (Wkrs) | Nashville, TN | 12/01/2003 | 11/18/2003
53,675 | Pincus Brothers Maxwell (UNITE) | Philadelphia, PA | 12/01/2003 | 11/21/2003
53,676 | Morton International, Inc. (Comp) | Manistee, MI | 12/01/2003 | 11/19/2003
53,677 | Smead Mfg. Company (The) (Comp) | Logan, OH | 12/01/2003 | 11/18/2003
53,678 | Foam Tech, Inc. (Comp) | Lexington, NC | 12/01/2003 | 11/19/2003
53,679 | General Cable (Comp) | Taunton, MA | 12/01/2003 | 11/20/2003
53,680 | U.S. Axle, Inc. (Comp) | Pottstown, PA | 12/02/2003 | 11/28/2003
53,681 | Apache Micro Peripherals, Inc. (State) | Irvin, CA | 12/02/2003 | 11/26/2003
53,682 | Adams Magnetic Products (State) | Battle Ground, WA | 12/02/2003 | 12/01/2003
53,683 | Kirby Manufacturer Co., Inc. (Comp) | Lenoir City, TN | 12/02/2003 | 11/25/2003
53,684 | Lempco Industries, Inc. (Union) | New Lexington, OH | 12/02/2003 | 11/21/2003
53,685 | TMH (Union) | Portage, IN | 12/02/2003 | 11/21/2003
53,686 | Ogg Harding Machine (Comp.) | Lexington, TN | 12/02/2003 | 11/17/2003
53,687 | Olympic Wood Products Inc. (Comp.) | Shelton, WA | 12/02/2003 | 11/23/2003
53,688 | Elastic Corp. of America, Inc. (Comp) | Woolwine, VA | 12/03/2003 | 11/24/2003
53,689 | Washington Mfg. Co., LLC (Comp) | Washington, GA | 12/03/2003 | 11/25/2003
53,690 | Learjet, Inc. (AZ) | Tucson, AZ | 12/03/2003 | 11/26/2003
53,691 | A.T. Cross Company (Comp) | Lincoln, RI | 12/03/2003 | 11/25/2003
53,692 | Schrader-Bridgeport Int'l., Inc. (Comp) | Muskogee, OK | 12/03/2003 | 11/26/2003
53,693 | CII/Tyco Electronics (Wkrs) | Guttenberg, IA | 12/03/2003 | 11/25/2003
53,694 | Metso Minerals (USWA) | Milwaukee, WI | 12/03/2003 | 11/25/2003
53,695 | Continental Teves (Comp) | Asheville, NC | 12/03/2003 | 11/20/2003
53,696 | Stinson, Inc. (USWA) | Pittsburgh, PA | 12/03/2003 | 11/25/2003
53,697 | Raytheon Aircraft Co. (IAM) | Wichita, KS | 12/03/2003 | 11/19/2003
53,698 | Holloway Sportswear, Inc. (Comp) | Simmesport, LA | 12/03/2003 | 11/25/2003
53,699 | Tomlinson Industries (Comp) | Cleveland, OH | 12/03/2003 | 11/26/2003
53,700 | Spirit Silkskreen (Wkrs) | Irvine, CA | 12/03/2003 | 11/13/2003
53,701 | American Uniform Co. (Comp) | Robbinsville, NC | 12/04/2003 | 11/26/2003
53,702 | Snap-on, Inc. (IAMAW) | Kenosha, WI | 12/04/2003 | 08/20/2003
53,703 | Cone Mills Corp. (Comp) | Greensboro, NC | 12/04/2003 | 12/01/2003
53,704 | Lucent Technologies (Wkrs) | Lisle, IL | 12/04/2003 | 11/25/2003
53,705 | Vistakon (FL) | Jacksonville, FL | 12/04/2003 | 12/02/2003
53,706 | Advance Transformer Co. (Comp) | Chicago, IL | 12/04/2003 | 11/10/2003
53,707 | Van Dorn DeMag (Wkrs) | Fountain, SC | 12/04/2003 | 11/24/2003
53,708 | Weyerhaeuser (WA) | Sedro Woolley, WA | 12/04/2003 | 12/02/2003
53,709 | Alfmeier Corp. (Wkrs) | Dandridge, TN | 12/04/2003 | 11/19/2003
53,710 | Southill Industrial Carving (Comp) | Thomasville, NC | 12/04/2003 | 11/25/2003
53,711 | United States Postal Service (APWU) | Cohoes, NY | 12/04/2003 | 11/17/2003
53,712 | Dan Post Boot Co. (Comp) | Waverly, TN | 12/04/2003 | 12/01/2003
53,713 | Exeter Machine (Wkrs) | Lomira, WI | 12/04/2003 | 12/01/2003
53,714 | Facemate Corp. (Wkrs) | Chicopee, MA | 12/04/2003 | 12/01/2003
53,715 | Verticalnet, Inc. (Wkrs) | Endicott, NY | 12/05/2003 | 11/18/2003
53,716 | Hargro Fabrics, Inc. (Wkrs) | New York, NY | 12/05/2003 | 11/24/2003
53,717 | Nortel Networks (Wkrs) | Billerica, MA | 12/05/2003 | 11/25/2003
53,718 | Brown-Minneapolis Tank (Wkrs) | Orem, UT | 12/05/2003 | 11/11/2003
53,719 | Wellpoint Blue Cross Blue Shield of MO. (Wkrs) | Springfield, MO | 12/05/2003 | 11/25/2003
53,720 | Teleperformance USA (Wkrs) | Butte, MT | 12/05/2003 | 12/01/2003
53,721 | Standard Boiler Works (Wkrs) | Lebanon, PA | 12/05/2003 | 11/14/2003
53,722 | Fisher Controls LLC (CT) | N. Stonington, CT | 12/05/2003 | 12/02/2003
53,723 | Johnston Industries (Wkrs) | Valley, AL | 12/05/2003 | 12/02/2003
53,724 | TSI (Wkrs) | Manassas, VA | 12/05/2003 | 11/30/2003
53,725 | CCI Power Supplies, LLC (Wkrs) | Pardeeville, WI | 12/05/2003 | 12/03/2003
53,726 | Butler Manufacturing Co. (USWA) | Galesburg, IL | 12/05/2003 | 11/21/2003
53,727 | CSP Technologies, Inc. (Wkrs) | High Point, NC | 12/05/2003 | 12/01/2003
53,728 | Wohlert Corporation (Wkrs) | Gladwin, MI | 12/05/2003 | 11/24/2003

[FR Doc. 03-32274 Filed 12-31-03; 8:45 am]

BILLING CODE 4510-30-M